DEPARTMENT OF TRANSPORTATION

Federal Motor Carrier Safety Administration

[Docket No. FMCSA-2023-0100]

Agency Information Collection Activities; Renewal of an Approved Information Collection: Accident Recordkeeping Requirements

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew the ICR titled “Accident Recordkeeping Requirements.” This ICR relates to Agency requirements that motor carriers maintain a record of accidents involving their commercial motor vehicles (CMVs). Motor carriers are not required to report this data to FMCSA, but must produce it upon inquiry by authorized Federal, State, or local officials.

DATES: Comments on this notice must be received on or before January 16, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Pearlie Robinson, Driver and Carrier Operations Division, DOT, FMCSA, West Building, 6th Floor, 1200 New Jersey Avenue SE, Washington, DC 20590-0001; 202-366-4225; pearlie.robinson@dot.gov.

SUPPLEMENTARY INFORMATION: Title: Accident Recordkeeping Requirements.

OMB Control Number: 2126-0009.

Type of Request: Renewal of a currently approved collection.

Respondents: Motor carriers.

Estimated Number of Respondents: 93,280.

Estimated Time per Response: 18 minutes.

Expiration Date: February 29, 2024.

Frequency of Response: On occasion.

Estimated Total Annual Burden: 48,760 burden hours (162,533 accidents × 18 minutes per response/60 minutes in an hour = 48,760 hours).

Definitions: Accident is an occurrence involving a CMV operating on a public road which results in: (1) a fatality, (2) bodily injury to a person who, as a result of the injury, immediately receives medical treatment away from the scene of the accident, or (3) one or more motor vehicles incurring disabling damage as a result of the accident, requiring the motor vehicle(s) to be transported away from the scene by a tow truck or other motor vehicle (see 49 CFR 390.5T).

Background

Title 49 of the Code of Federal Regulations (CFR), section 390.15(b), requires motor carriers to make certain specified records and information pertaining to CMV accidents available to an authorized representative or special agent of FMCSA upon request or as part of an inquiry. Motor carriers are required to maintain an “accident register” consisting of information concerning all accidents involving their CMVs (§ 390.15(b) (see Definition: Accident above)). The following information must be recorded for each accident: date, location, driver name, number of injuries, number of fatalities, and whether certain dangerous hazardous materials were released. In addition, the motor carrier must maintain copies of all accident reports required by insurers or governmental entities. Motor carriers must maintain this information for 3 years after the date of the accident. Section 390.15 does not require motor carriers to submit any information or records to FMCSA or any other party.

This ICR supports the DOT strategic goal of safety. By requiring motor carriers to gather and record information concerning CMV accidents, FMCSA is strengthening its ability to assess the safety performance of motor carriers. This information is a valuable resource in Agency initiatives to prevent, and reduce the severity of, CMV crashes.

The Agency has modified several of its estimates for this ICR. The estimated number of annual respondents have increased, while the number of responses, burden hours, and annual costs to respondents have decreased. Explanations for these changes are summarized below.

The previously approved burden is 55,425 burden hours. The Agency decreases its estimate to 48,760 burden hours. The text of § 390.15(b) is unchanged; the decrease in burden hours does not reflect changes in the requirements for accident recordkeeping. The adjustment in annual burden hours is due to an increase in the number of annual respondents from 89,270 to 93,280, and a decrease in the estimate of the number of reportable accidents from 184,749 to 162,533 per year, using interstate and intrastate DOT-reportable motor carrier crash records in FMCSA's Motor Carrier Management Information System for calendar years 2020 through 2022.

This ICR includes estimated labor costs associated with maintaining the accident register. The estimated annual labor cost for industry resulting from the accident register reporting requirements is decreased from $1.86 million to $1.51 million.

Finally, the estimated annual cost associated with accident recordkeeping (outside of labor costs) is decreased from $106,785 to $93,944. In the current iteration of this ICR, FMCSA is assuming that (1) approximately 15 percent of motor carriers are storing their Accident Registers electronically, at no extra cost, and (2) approximately 85 percent of motor carriers are storing hard copy versions of their accident registers. FMCSA is further assuming that motor carriers that maintain paper records are storing their accident registers at their primary place of business, so that they have easy access to such records during an FMCSA investigation.

On August 8, 2023, FMCSA published a notice in the Federal Register with a 60-day public comment period announcing the proposed renewal of this ICR (88 FR 53579). The Agency received four comments. Two commenters, Philip Clark and an anonymous individual, submitted comments opposing the underlying regulatory requirement for an accident register. Michael Dolezal, a third individual, submitted comments that were neither in support of nor against the ICR renewal. The National Motor Freight Traffic Association, Inc. (NMFTA) submitted comments in favor of renewing this ICR, and suggested additional information be added to the accident register.

None of the commenters addressed whether the proposed collection is necessary for the accuracy of the estimated burden; nor the ways the burden could be minimized without reducing the quality of the collected information.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Thomas P. Keane,
Associate Administrator, Office of Research and Registration.

[FR Doc. 2023-27456 Filed 12-13-23; 8:45 am]

BILLING CODE 4910-EX-P